FEDERAL COMMUNICATIONS COMMISSION

47 CFR Part 73

[DA 08-738; MB Docket No. 07-220; RM-11403]

Radio Broadcasting Services; Ash Fork and Paulden, AZ

AGENCY: Federal Communications Commission.

ACTION: Final rule.

SUMMARY: The Audio Division, at the request of Sierra H Broadcasting, Inc., allots FM Channel 259A in lieu of vacant FM Channel 267A at Ash Fork, Arizona, and allots FM Channel 228C3 in lieu of vacant FM Channel 268C3 at Paulden, Arizona. Channel 259A can be allotted at Ash Fork, Arizona, in compliance with the Commission's minimum distance separation requirements with a site restriction of 7.4 km (4.6 miles) northwest of Ash Fork at the following reference coordinates: 35-16-13 North Latitude and 112-32-31 West Longitude. Channel 228C3 can be allotted at Paulden, Arizona, in compliance with the Commission's minimum distance separation requirements with a site restriction of 7.7 km (4.8 miles) west of Paulden at the following reference coordinates: 34-52-16 North Latitude and 112-33-00 West Longitude. Concurrence in the Paulden allotment by the Government of Mexico is required because the proposed allotment is located within 320 kilometers (199 miles) of the U.S.-Mexican border. Although Mexican concurrence has been requested, notification has not been received. If a construction permit for Channel 228C3 at Paulden, Arizona, is granted prior to receipt of formal concurrence by the Mexican government, the authorization will include the following condition: “Operation with the facilities specified herein for Paulden, Arizona, is subject to modification, suspension, or termination without right to hearing, if found by the Commission to be necessary in order to conform to the Mexico-United States FM Broadcast Agreement, or if specifically objected to by the Government of Mexico.”

DATES: Effective May 12, 2008.

ADDRESSES: Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 07-220, adopted March 26, 2008, and released March 28, 2008. The full text of this Commission decision is available for inspection and copying during normal business hours in the FCC Reference Information Center, Portals II, 445 12th Street, SW, Room CY-A257, Washington, DC 20554. The complete text of this decision also may be purchased from the Commission's duplicating contractor, Best Copy and Printing, Inc., 445 12th Street, SW, Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Arizona, is amended by removing Channel 267A and adding Channel 259A at Ash Fork, and by removing Channel 263C3 and adding Channel 228C3 at Paulden.

Federal Communications Commission.
John A. Karousos,
Assistant Chief, Audio Division, Media Bureau.

[FR Doc. E8-8087 Filed 4-16-08; 8:45 am]

BILLING CODE 6712-01-P